DEPARTMENT OF LABOR

Occupational Safety and Health Administration

[Docket No. OSHA-2011-0008]

Standard on Commercial Diving Operations; Extension of the Office of Management and Budget's (OMB) Approval of Information Collection (Paperwork) Requirements

AGENCY: Occupational Safety and Health Administration (OSHA), Labor.

ACTION: Request for public comments.

SUMMARY: OSHA solicits public comments concerning its proposal to extend OMB approval of the information collection requirements specified in the Commercial Diving Operations Standard (29 CFR part 1910, subpart T).

DATES: Comments must be submitted (postmarked, sent, or received) by January 3, 2012.

ADDRESSES: Electronically: You may submit comments and attachments electronically at http://www.regulations.gov, which is the Federal eRulemaking Portal. Follow the instructions online for submitting comments.

Facsimile: If your comments, including attachments, are not longer than 10 pages, you may fax them to the OSHA Docket Office at (202) 693-1648.

Mail, hand delivery, express mail, messenger, or courier service: When using this method, you must submit your comments and attachments to the OSHA Docket Office, Docket No. OSHA-2011-0008, U.S. Department of Labor, Occupational Safety and Health Administration, Room N-2625, 200 Constitution Avenue NW., Washington, DC 20210. Deliveries (hand, express mail, messenger, and courier service) are accepted during the Department of Labor's and Docket Office's normal business hours, 8:15 a.m. to 4:45 p.m., E.T.

Instructions: All submissions must include the Agency name and OSHA docket number (OSHA-2011-0008) for the Information Collection Request (ICR). All comments, including any personal information you provide, are placed in the public docket without change, and may be made available online at http://www.regulations.gov. For further information on submitting comments see the “Public Participation” heading in the section of this notice titled SUPPLEMENTARY INFORMATION.

Docket: To read or download comments or other material in the docket, go to http://www.regulations.gov or the OSHA Docket Office at the address above. All documents in the docket (including this Federal Register notice) are listed in the http://www.regulations.gov index; however, some information (e.g., copyrighted material) is not publicly available to read or download through the Web site. All submissions, including copyrighted material, are available for inspection and copying at the OSHA Docket Office. You also may contact Theda Kenney at the address below to obtain a copy of the ICR.

FOR FURTHER INFORMATION CONTACT: Theda Kenney or Todd Owen, Directorate of Standards and Guidance, OSHA, U.S. Department of Labor, Room N-3609, 200 Constitution Avenue NW., Washington, DC 20210; telephone (202) 693-2222.

SUPPLEMENTARY INFORMATION:

I. Background

The Department of Labor, as part of its continuing effort to reduce paperwork and respondent (i.e., employer) burden, conducts a preclearance consultation program to provide the public with an opportunity to comment on proposed and continuing information collection requirements in accordance with the Paperwork Reduction Act of 1995 (44 U.S.C. 3506(c)(2)(A)). This program ensures that information is in the desired format, reporting burden (time and costs) is minimal, collection instruments are clearly understood, and OSHA's estimate of the information collection burden is accurate. The Occupational Safety and Health Act of 1970 (the OSH Act) (29 U.S.C. 651 et seq.) authorizes information collection by employers as necessary or appropriate for enforcement of the OSH Act or for developing information regarding the causes and prevention of occupational injuries, illnesses, and accidents (29 U.S.C. 657). The OSH Act also requires that OSHA obtain such information with minimum burden upon employers, especially those operating small businesses, and to reduce to the maximum extent feasible unnecessary duplication of efforts in obtaining information (29 U.S.C. 657).

As required by the Paperwork Reduction Act of 1995 (the PRA-95) (44 U.S.C. 3506(c)(2)(A)), OSHA published a notice in the Federal Register on March 16, 2011 (76 FR 14432, Docket No. OSHA-2011-0008) requesting public comment on its proposed extension of the information collection requirements referenced in the existing Standard on Commercial Diving Operations (29 CFR part 1910, Subpart T, “the Standard”). The notice was part of a preclearance consultation program intended to provide those interested parties the opportunity to comment on OSHA's request for an extension by OMB of a previous approval of the information collection requirements in the Standard. The Agency received nine comments in response to its notice.

However, as a result of the Standards Improvement Project—Phase III (SIP-III) final rule published on June 8, 2011 (76 FR 33590), the provision that required employers to “transfer records” to NIOSH when they ceased to do business (formerly 29 CFR 1910.440(b)(5)) was revoked. In accordance with the PRA-95, prior to issuance of the final rule, on May 27, 2011, OSHA submitted a revised Information Collection Request (ICR) to OMB requesting approval to remove this requirement and the associated burden hours and costs. On August 11, 2011, OMB issued a Notice of Action (NOA) indicating approval of the request.

In addition, the NOA instructed the Department of Labor to publish a second notice in the Federal Register to solicit comments on its proposal to extend OMB's approval of the information collection requirements. In response, this notice fulfills the NOA instructions. The Agency will respond to any comments submitted in response to this notice and submit the final ICR to OMB.

The Standard applies to diving and related support operations conducted by employers involved in general industry, construction, ship repairing, shipbuilding, shipbreaking, and longshoring, and specifies equipment and procedures that prevent injury and death among workers exposed to hazards associated with diving and diving support operations.

The Standard contains a number of paperwork requirements. Following is a list of provisions containing these requirements.

Section 1910.401(b), Sections 1910.410(a)(3) and (a)(4), Section 1910.420(a), Section 1910.421(b), Section 1910.421(f), Section 1910.421(h), Section 1910.422(e), Sections 1910.423(b)(1)(ii) through (b)(2), Section 1910.423(d), Section 1910.423(e), Sections 1910.430(a), (b)(4), (c)(1)(iii), (c)(3)(i), (f)(3)(ii), and (g)(2), and Sections 1910.440(a)(2) and (b).

II. Special Issues for Comment

OSHA has a particular interest in comments on the following issues:

• Whether the proposed information collection requirements are necessary for the proper performance of the Agency's functions to protect workers, including whether the information is useful;

• The accuracy of OSHA's estimate of the burden (time and costs) of the information collection requirements, including the validity of the methodology and assumptions used;

• The quality, utility, and clarity of the information collected; and

• Ways to minimize the burden on employers who must comply; for example, by using automated or other technological information collection and transmission techniques.

III. Proposed Actions

OSHA is requesting that it retain OMB approval of its current burden hour estimate of 205,096 hours. The Agency will summarize any comments submitted in response to this notice and will include this summary in the request to OMB.

Type of Review: Extension of a currently approved collection.

Title: Commercial Diving Operations (29 CFR part 1910, subpart T).

OMB Number: 1218-0069.

Affected Public: Business or other for-profits; Not-for-profit institutions; Federal Government; State, Local or Tribal Governments.

Number of Respondents: 3,000.

Frequency: On occasion; Annually.

Total Responses: 4,002,965.

Average Time per Response: Varies from 3 minutes (.05 hour) to replace the safe practices manual to 1 hour to develop a new manual.

Estimated Total Burden Hours: 205,096.

Estimated Cost (Operation and Maintenance): $0.

IV. Public Participation—Submission of Comments on This Notice and Internet

Access to Comments and Submissions

You may submit comments in response to this document as follows: (1) Electronically at http://www.regulations.gov, which is the Federal eRulemaking Portal; (2) by facsimile (fax); or (3) by hard copy. All comments, attachments, and other material must identify the Agency name and the OSHA docket number for this Information Collection Request (ICR) (Docket No. OSHA-2011-0008). You may supplement electronic submissions by uploading document files electronically. If you wish to mail additional materials in reference to an electronic or a fax submission, you must submit them to the OSHA Docket Office (see the section of this notice titled ADDRESSES). The additional materials must clearly identify your electronic comments by your name, date, and docket number so the Agency can attach them to your comments.

Because of security procedures, the use of regular mail may cause a significant delay in the receipt of comments. For information about security procedures concerning the delivery of materials by hand, express delivery, messenger or courier service, please contact the OSHA Docket Office at (202) 693-2350, (TTY (877) 889-5627).

Comments and submissions are posted without change at http://www.regulations.gov. Therefore, OSHA cautions commenters about submitting personal information, such as social security numbers and dates of birth. Although all submissions are listed in the http://www.regulations.gov index, some information (e.g., copyrighted material) is not publicly available to read or download through this Web site. All submissions, including copyrighted material, are available for inspection and copying at the OSHA Docket Office. Information on using the http://www.regulations.gov Web site to submit comments and access the docket is available at the Web site's “User Tips” link. Contact the OSHA Docket Office for information about materials not available through the Web site, and for assistance in using the Internet to locate docket submissions.

V. Authority and Signature

David Michaels, Ph.D., MPH, Assistant Secretary of Labor for Occupational Safety and Health, directed the preparation of this notice. The authority for this notice is the Paperwork Reduction Act of 1995 (44 U.S.C. 3506 et seq.) and Secretary of Labor's Order No. 4-2010 (75 FR 55355).

Signed at Washington, DC, on October 27, 2011.
David Michaels,
Assistant Secretary of Labor for Occupational Safety and Health.

[FR Doc. 2011-28267 Filed 10-31-11; 8:45 am]

BILLING CODE 4510-26-P